DEPARTMENT OF DEFENSE

Department of the Army

Western Hemisphere Institute for Security Cooperation Board of Visitors; Meeting

AGENCY: Department of the Army, DoD.

ACTION: Notice of open meeting.

SUMMARY: This notice sets forth the schedule and summary agenda for the annual meeting of the Board of Visitors (BoV) for the Western Hemisphere Institute for Security Cooperation (WHINSEC). Notice of this meeting is required under the Federal Advisory Committee Act (Pub. L. 92-463). The Board's charter was renewed on February 1, 2006 in compliance with the requirements set forth in Title 10 U.S.C. 2166.

Date: November 30-December 1, 2006.

Time: 8:30 a.m. to 12 p.m. (November 30) and 8:30 a.m. to 1 p.m. (December 1).

Location: Building 35, 7011 Morrison Ave., Fort Benning, GA 31905.

Proposed Agenda: The WHINSEC BoV will be briefed on activities at the Institute since the last Board meeting on June 15, 2006 as well as receive other information appropriate to its interests.

FOR FURTHER INFORMATION CONTACT: WHINSEC Board of Visitors Secretariat at (703) 614-3818 or (703) 614-8721.

SUPPLEMENTARY INFORMATION: The meeting is open to the public. Public comment by individuals and organizations may be made from 12 p.m. to 1 p.m. on Friday, December 1, 2006. Public comments will be limited to five minutes each. Anyone desiring to make an oral statement must register by sending a fax to (703) 614-8920 with their name, phone number, e-mail address, and the full text of their comments by 5 p.m. EST on Monday, November 27, 2006. The first twelve requestors will be notified by 5 p.m. EST on Tuesday, November 28, 2006 of their time to address the Board during the public comment forum. All other comments will be retained for the record. Public seating is limited and will be available only on a first come, first serve basis.

Brenda S. Bowen,
Army Federal Register Liaison Officer.

[FR Doc. 06-9219 Filed 11-15-06; 8:45 am]

BILLING CODE 3710-08-M